DEPARTMENT OF ENERGY

Federal Energy Regulatory Commission

Combined Notice of Filings #1

Take notice that the Commission received the following electric corporate filings:

Docket Numbers: EC13-100-000.

Applicants: Southwestern Public Service Company.

Description: Application of Southwestern Public Service Company for Authorization under Section 203 of the Federal Power Act for Disposition of Jurisdictional Facilities.

Filed Date: 4/29/13.

Accession Number: 20130429-5291.

Comments Due: 5 p.m. ET 5/20/13.

Take notice that the Commission received the following electric rate filings:

Docket Numbers: ER10-1530-001.

Applicants: Llano Estacado Wind, LLC.

Description: Supplement to December 31, 2012 Triennial Updated Market Power Analysis for the Southwest Power Pool, Inc. Region of Llano Estacado Wind, LLC.

Filed Date: 4/29/13.

Accession Number: 20130429-5109.

Comments Due: 5 p.m. ET 5/20/13.

Docket Numbers: ER10-2712-001.

Applicants: Cargill Power Markets, LLC.

Description: Notice of Change in Status of Cargill Power Markets, LLC.

Filed Date: 4/30/13.

Accession Number: 20130430-5349.

Comments Due: 5 p.m. ET 5/21/13.

Docket Numbers: ER10-2630-001.

Applicants: NGP Blue Mountain I LLC.

Description: Notice of Change in Status of NGP Blue Mountain I LLC.

Filed Date: 4/29/13.

Accession Number: 20130429-5355.

Comments Due: 5 p.m. ET 5/20/13.

Docket Numbers: ER10-2719-013; ER10-2718-013; ER10-2633-013 ER10-2570-013; ER10-2717-013; ER10-3140-012 ER13-55-003.

Applicants: East Coast Power Linden Holding, L.L.C., Cogen Technologies Linden Venture, L.P., Birchwood Power Partners, L.P., Shady Hills Power Company, L.L.C., EFS Parlin Holdings, LLC, Inland Empire Energy Center, LLC, Homer City Generation, L.P.

Description: Notice of Non-Material Change in Status of East Coast Power Linden Holding, L.L.C., et al.

Filed Date: 4/30/13.

Accession Number: 20130430-5227.

Comments Due: 5 p.m. ET 5/21/13.

Docket Numbers: ER13-1359-000.

Applicants: Tampa Electric Company.

Description: Emergency Interchange Service Schedule A&B—2013 (Bundled) to be effective 5/1/2013.

Filed Date: 4/30/13.

Accession Number: 20130430-5118.

Comments Due: 5 p.m. ET 5/21/13.

Docket Numbers: ER13-1360-000.

Applicants: Tampa Electric Company.

Description: Tampa Electric Company submits tariff filing per 35.13(a)(2)(iii: QF Transmission Agreement with Auburndale Pwr Partners—2013 to be effective 5/1/2013.

Filed Date: 4/30/13.

Accession Number: 20130430-5125.

Comments Due: 5 p.m. ET 5/21/13.

Docket Numbers: ER13-1361-000.

Applicants: Tampa Electric Company.

Description: Tampa Electric Company submits tariff filing per 35.13(a)(2)(iii: Emergency Interchange Service Contract with Southern Company—2013 (Unbundled) to be effective 5/1/2013.

Filed Date: 4/30/13.

Accession Number: 20130430-5128.

Comments Due: 5 p.m. ET 5/21/13.

Docket Numbers: ER13-1362-000.

Applicants: Southwest Power Pool, Inc.

Description: Southwest Power Pool, Inc. submits tariff filing per 35.13(a)(2)(iii: 1148R15 American Electric Power NITSA and NOAs to be effective 4/1/2013.

Filed Date: 4/30/13.

Accession Number: 20130430-5181.

Comments Due: 5 p.m. ET 5/21/13.

Docket Numbers: ER13-1363-000.

Applicants: Southwest Power Pool, Inc.

Description: Submission of Notice of Cancellation of Southwest Power Pool, Inc.

Filed Date: 4/30/13.

Accession Number: 20130430-5185.

Comments Due: 5 p.m. ET 5/21/13.

Docket Numbers: ER13-1364-000.

Applicants: Southern California Edison Company.

Description: Southern California Edison Company submits tariff filing per 35.13(a)(2)(iii: Revised Added Facilities Rate for Agmts under WDAT to be effective 1/1/2013.

Filed Date: 4/30/13.

Accession Number: 20130430-5188.

Comments Due: 5 p.m. ET 5/21/13.

Docket Numbers: ER13-1365-000.

Applicants: California Independent System Operator Corporation.

Description: California Independent System Operator Corporation submits tariff filing per 35.13(a)(2)(iii: 2013-04-30 CDWR PLA Amendment 8 to be effective 5/1/2013.

Filed Date: 4/30/13.

Accession Number: 20130430-5210.

Comments Due: 5 p.m. ET 5/21/13.

Take notice that the Commission received the following land acquisition reports:

Docket Numbers: LA13-1-000.

Applicants: Midland Cogeneration Venture Limited Partnership.

Description: Quarterly Land Acquisition Report of Midland Cogeneration Venture Limited Partnership.

Filed Date: 4/29/13.

Accession Number: 20130429-5344.

Comments Due: 5 p.m. ET 5/20/13.

Docket Numbers: LA13-1-000.

Applicants: Southern Company Services, Inc., Alabama Power Company, Georgia Power Company, Gulf Power Company, Mississippi Power Company and Southern Power Company.

Description: Quarterly Land Acquisition Report of Southern Company Services, Inc.

Filed Date: 4/30/13.

Accession Number: 20130430-5039.

Comments Due: 5 p.m. ET 5/21/13.

Docket Numbers: LA13-1-000.

Applicants: Astoria Generating Company, L.P.

Description: Quarterly Land Acquisition Report of Astoria Generating Company, L.P.

Filed Date: 4/30/13.

Accession Number: 20130430-5191.

Comments Due: 5 p.m. ET 5/21/13.

Docket Numbers: LA13-1-000.

Applicants: Bruce Power Inc.

Description: Quarterly Land Acquisition Report of Bruce Power Inc.

Filed Date: 4/30/13.

Accession Number: 20130430-5277.

Comments Due: 5 p.m. ET 5/21/13.

Docket Numbers: LA13-1-000.

Applicants: Colorado Highlands Wind, LLC.

Description: Quarterly Land Acquisition Report of Colorado Highlands Wind, LLC.

Filed Date: 4/30/13.

Accession Number: 20130430-5286.

Comments Due: 5 p.m. ET 5/21/13.

Docket Numbers: LA13-1-000.

Applicants: Cloud County Wind Farm LLC.

Description: Quarterly Land Acquisition Report of Cloud County Wind Farm, LLC.

Filed Date: 4/30/13.

Accession Number: 20130430-5301.

Comments Due: 5 p.m. ET 5/21/13.

Docket Numbers: LA13-1-000.

Applicants: High Prairie Wind Farm II, LLC.

Description: Quarterly Land Acquisition Report of High Prairie Wind Farm II, LLC.

Filed Date: 4/30/13.

Accession Number: 20130430-5326.

Comments Due: 5 p.m. ET 5/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2013.
Nathaniel J. Davis, Sr.,
Deputy Secretary.

[FR Doc. 2013-11416 Filed 5-13-13; 8:45 am]

BILLING CODE 6717-01-P